DEPARTMENT OF THE INTERIOR

Geological Survey

[Docket No. USGS-2025-0014; OMB Control Number 1028-0051; GX.25.GG00.99600.00]

Agency Information Collection Activities; Submission to the Office of Management and Budget for Review and Approval; Earthquake Hazards Program Research and Monitoring

AGENCY: U.S. Geological Survey, Interior.

ACTION: Notice of information collection; request for comment.

SUMMARY: In accordance with the Paperwork Reduction Act (PRA) of 1995, the U.S. Geological Survey (USGS) is proposing to renew an information collection.

DATES: Interested persons are invited to submit comments on or before October 27, 2025.

ADDRESSES: You may submit comments by one of the following methods:

Internet: https://www.regulations.gov. Search for and submit comments on Docket No. USGS-2025-0014.

U.S. Mail: USGS, Information Collections Clearance Officer, 12201 Sunrise Valley Drive, MS 159, Reston, VA 20192.

FOR FURTHER INFORMATION CONTACT: Jill M. Franks by email at jfranks@usgs.gov, or by telephone at 571-294-1718. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA of 1995 (44 U.S.C. 3501 et seq.) and 5 CFR 1320.8(d)(1), the USGS provides the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on July 21, 2025 (90 FR 34297). One comment was received. The feedback we received commended the USGS for its commitment to enhancing earthquake hazards research and monitoring through this information collection initiative, and encourages the agency to continue fostering public engagement, ensuring transparency, and adhering to legal standards to maximize the benefits of the USGS Earthquake Hazards Program for all stakeholders.

As part of our continuing effort to reduce paperwork and respondent burdens, we are soliciting comments from the public and other Federal agencies on the proposed ICR that is described below. We are especially interested in public comments addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: Research and monitoring findings are essential to fulfilling the USGS's responsibility under the Earthquake Hazards Reduction Act to develop earthquake hazard assessments and record earthquake activity nationwide. Residents, emergency responders, engineers, and the public rely on the USGS for this accurate and scientifically sound information. The USGS Earthquake Hazards Program funds external investigators to carry out these important activities.

In response to our notice of funding opportunities, investigators submit proposals for research and monitoring activities on earthquake hazard assessments, earthquake causes and effects, and earthquake monitoring. This information is used as the basis for selection and award of projects meeting the USGS's Earthquake Hazards Program objectives. Final reports of research and monitoring findings are required for each funded proposal; annual progress reports are required for awards of a 2- to 5-year duration. Final reports are made available to the public at the website: https://www.usgs.gov/programs/earthquake-hazards/science/external-grants.

Title of Collection: Earthquake Hazards Program Research and Monitoring.

OMB Control Number: 1028-0051.

Form Number: None.

Type of Review: Extension of a currently approved collection.

Respondents/Affected Public Research scientists, engineers, and the public.

Total Estimated Number of Annual Respondents: 370 (250 applications and narratives and 120 annual and final reports).

Total Estimated Number of Annual Responses: 370 (250 applications and narratives and 120 annual and final reports).

Estimated Completion Time per Response: 45 hours per proposal application response and 9 hours per final or annual progress report.

Total Estimated Number of Annual Burden Hours: 12,330 (11,250 hours per application and 1,080 hours per final or annual progress report).

Respondent's Obligation: Participation is voluntary but required to obtain or retain benefits.

Frequency of Collection: Annually and once every 3 to 5 years, depending on the duration of the award.

Total Estimated Annual Non-Hour Burden Cost: There are no non-hour cost burdens associated with this Information Collection.

An agency may not conduct or sponsor and a person is not required to respond to a collection of information unless it displays a currently valid OMB control number.

The authority for this action is the Paperwork Reduction Act of 1995 (44 U.S.C. 3501 et seq.).

Jill Franks,
Associate Program Coordinator, External Grants, USGS, Natural Hazards.

[FR Doc. 2025-18556 Filed 9-24-25; 8:45 am]

BILLING CODE 4338-11-P